DEPARTMENT OF TRANSPORTATION

Federal Motor Carrier Safety Administration

[Docket ID. FMCSA-2009-0321]

Qualification of Drivers; Exemption Applications; Vision

AGENCY: Federal Motor Carrier Safety Administration (FMCSA), DOT.

ACTION: Notice of applications for exemptions; request for comments.

SUMMARY: FMCSA announces receipt of applications from 33 individuals for exemption from the vision requirement in the Federal Motor Carrier Safety Regulations. If granted, the exemptions would enable these individuals to qualify as drivers of commercial motor vehicles (CMVs) in interstate commerce without meeting the Federal vision standard.

DATES: Comments must be received on or before February 12, 2010.

ADDRESSES: You may submit comments bearing the Federal Docket Management System (FDMS) Docket ID FMCSA-2009-0321 using any of the following methods:

• Federal eRulemaking Portal: Go to http://www.regulations.gov. Follow the on-line instructions for submitting comments.

• Mail: Docket Management Facility; U.S. Department of Transportation, 1200 New Jersey Avenue, SE., West Building Ground Floor, Room W12-140, Washington, DC 20590-0001.

• Hand Delivery: West Building Ground Floor, Room W12-140, 1200 New Jersey Avenue, SE., Washington, DC, between 9 a.m. and 5 p.m., Monday through Friday, except Federal Holidays.

• Fax: 1-202-493-2251.

Each submission must include the Agency name and the docket ID for this Notice. Note that DOT posts all comments received without change to http://www.regulations.gov, including any personal information included in a comment. Please see the Privacy Act heading below.

Docket: For access to the docket to read background documents or comments, go to http://www.regulations.gov at any time or Room W12-140 on the ground level of the West Building, 1200 New Jersey Avenue, SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review the DOT's complete Privacy Act Statement in the Federal Register published on April 11, 2000 (65 FR 19476). This information is also available at http://www.regulations.gov.

FOR FURTHER INFORMATION CONTACT: Dr. Mary D. Gunnels, Director, Medical Programs, (202) 366-4001, fmcsamedical@dot.gov, FMCSA, Department of Transportation, 1200 New Jersey Avenue, SE., Room W64-224, Washington, DC 20590-0001. Office hours are from 8:30 a.m. to 5 p.m., Monday through Friday, except Federal holidays.

SUPPLEMENTARY INFORMATION:

Background

Under 49 U.S.C. 31136(e) and 31315, FMCSA may grant an exemption for a 2-year period if it finds “such exemption would likely achieve a level of safety that is equivalent to, or greater than, the level that would be achieved absent such exemption.” FMCSA can renew exemptions at the end of each 2-year period. The 33 individuals listed in this notice have each requested an exemption from the vision requirement in 49 CFR 391.41(b)(10), which applies to drivers of CMVs in interstate commerce. Accordingly, the Agency will evaluate the qualifications of each applicant to determine whether granting an exemption will achieve the required level of safety mandated by statute.

Qualifications of Applicants

Bradley T. Alspach

Mr. Alspach, age 50, has had amblyopia in his left eye since childhood. The best corrected visual acuity in his right eye is 20/20 and in his left eye, 20/200. Following an examination in 2009, his ophthalmologist noted, “In my opinion, he has sufficient vision to perform the driving tasks required to operate a commercial vehicle.” Mr. Alspach reported that he has driven straight trucks for 16 years, accumulating 332,800 miles, and buses for 7 months, accumulating 2,625 miles. He holds a Class B Commercial Driver's License (CDL) from Illinois. His driving record for the last 3 years shows no crashes and no convictions for moving violations in a CMV.

William M. Arbogast

Mr. Arbogast, 58, has a macular scar in his left eye due to a traumatic injury sustained in 1968. The best corrected visual acuity in his right eye is 20/20 and in his left eye, 20/1600. Following an examination in 2009, his optometrist noted, “It is my opinion that Mr. Arbogast has sufficient vision to safely drive and operate a commercial vehicle.” Mr. Arbogast reported that he has driven straight trucks for 40 years, accumulating 900,000 miles, and tractor-trailer combinations for 30 years, accumulating 675,000 miles. He holds a Class A CDL from Florida. His driving record for the last 3 years shows no crashes and no convictions for moving violations in a CMV.

John E. Cain

Mr. Cain, 59, has a retinal detachment in his left eye due to a traumatic injury sustained as a child. The best corrected visual acuity in his right eye is 20/20 and in his left eye, light perception only. Following an examination in 2009, his optometrist noted, “In my medical opinion, Mr. Cain has sufficient vision to perform the driving tasks required to operate a commercial vehicle.” Mr. Cain reported that he has driven straight trucks for 28 years, accumulating 350,000 miles. He holds a Class B CDL from New Mexico. His driving record for the last 3 years shows no crashes and no convictions for moving violations in a CMV.

Terry A. Crites

Mr. Crites, 41, has had refractive amblyopia in his left eye since childhood. The visual acuity in his right eye is 20/20 and in his left eye, 20/200. Following an examination in 2009, his optometrist noted, “Mr. Terry Crites in my medical opinion has sufficient vision to perform the driving tasks required to operate a commercial vehicle.” Mr. Crites reported that he has driven tractor-trailer trucks for 18 years, accumulating 1.4 million miles. He holds a Class A CDL from West Virginia. His driving record for the last 3 years shows no crashes and two convictions for moving violations in a CMV. In one instance, he exceeded the speed limit by 4 mph and in the other, by 16 mph.

Daniel M. Cannon

Mr. Cannon, 35, has had glaucoma in his right eye since birth. The visual acuity in his right eye is light perception only and in his left eye, 20/15. Following an examination in 2009, his optometrist noted, “It is my opinion that Daniel has sufficient vision to perform the driving tasks required to operate a commercial vehicle.” Mr. Cannon reported that he has driven straight trucks for 11 years, accumulating 16,500 miles. He holds a Class B CDL from Oregon. His driving record for the last 3 years shows no crashes and no convictions for moving violations in a CMV.

Eugene Contreras

Mr. Contreras, 68, has corneal scarring in his left eye due to trauma sustained as a child. The best corrected visual acuity in his right eye is 20/20 and in his left eye, 20/400. Following an examination in 2009, his ophthalmologist noted, “It is my opinion that Mr. Contreras does have sufficient vision to perform the driving tasks required to operate a commercial vehicle.” Mr. Contreras reported that he has driven buses for 8 years, accumulating 16,000 miles. He holds a Class B CDL from New Mexico. His driving record for the last 3 years shows no crashes and no convictions for moving violations in a CMV.

Curtis J. Crowston

Mr. Crowston, 44, has a prosthetic left eye due to a traumatic injury sustained in 1996. The visual acuity in his left eye is 20/50. Following an examination in 2009, his optometrist noted, “In my opinion, based on his monocular standing of visual acuity, color vision, and visual field testing, that Curtis has sufficient vision to perform the driving tasks required to operate a commercial vehicle.” Mr. Crowston reported that he has driven straight trucks for 6 years, accumulating 180 miles, and tractor-trailer combinations for 5 years, accumulating 100,000 miles. He holds a Class A CDL from North Dakota. His driving record for the last 3 years shows no crashes and no convictions for moving violations in a CMV.

Jim L. Davis

Mr. Davis, 54, has complete loss of vision in his right eye due to a traumatic injury sustained during childhood. The best corrected visual acuity in his left eye is 20/20. Following an examination in 2009, his optometrist noted, “It was my opinion that Mr. Davis had sufficient vision to perform the tasks required to drive a commercial vehicle.” Mr. Davis reported that he has driven straight trucks for 5 years, accumulating 650,000 miles, and tractor-trailer combinations for 2 years, accumulating 100,000 miles. He holds a Class B CDL from New Mexico. His driving record for the last 3 years shows no crashes and no convictions for moving violations in a CMV.

Clifford W. Doran, Jr.

Mr. Doran, 49, has a macular scar in his left eye due to ocular histoplasmosis syndrome. The best corrected visual acuity in his right eye is 20/15 and in his left eye, 20/300. Following an examination in 2009, his ophthalmologist noted, “His vision is best corrected and he is doing fine and I think he is okay to be able to drive a commercial vehicle because of his good peripheral vision in both eyes.” Mr. Doran reported that he has driven straight trucks for 8 months, accumulating 40,000 miles, and tractor-trailer combinations for 20 years, accumulating 1 million miles. He holds a Class A CDL from North Carolina. His driving record for the last 3 years shows no crashes and two convictions for speeding in a CMV. In both instances, he exceeded the speed limit by 9 miles per hour (mph).

Daniel W. Doshier

Mr. Doshier, 61, has aphakia in his right eye due to a traumatic injury sustained at age 17. The best corrected visual acuity in his right eye is 20/20 and in his left eye, 20/400. Following an examination in 2009, his optometrist noted, “I feel Mr. Doshier is visually able to perform any commercial driving tasks that he may be asked to do.” Mr. Doshier reported that he has driven straight trucks for 4 years, accumulating 36,000 miles. He holds a Class B CDL from Arkansas. His driving record for the last 3 years shows no crashes and one conviction for speeding in a CMV. He exceeded the speed limit by 15 mph.

Charles L. Dunn

Mr. Dunn, 43, has had retinal detachment in his right eye since 1999. The best corrected visual acuity in his right eye is hand-motion vision and in his left eye, 20/15. Following an examination in 2009, his optometrist noted, “In my opinion, Mr. Dunn has sufficient vision to perform the driving tasks required to operate a commercial vehicle at this time.” Mr. Dunn reported that he has driven straight trucks for 8½ years, accumulating 743,750 miles, and tractor-trailer combinations for 20 years, accumulating 1.7 million miles. He holds a Class A CDL from Oklahoma. His driving record for the last 3 years shows no crashes and two convictions for speeding in a CMV. In one instance, he exceeded the speed limit by 10 mph and in the other by 12 mph.

Andrew G. Fornsel

Mr. Fornsel, 46, has complete loss of vision in his right eye due to phtitesis bulbi caused by a traumatic injury sustained 39 years ago. The visual acuity in his left eye is 20/20. Following an examination in 2009, his optometrist noted, “It is my professional opinion that Mr. Andrew Fornsel has sufficient vision to perform any and all the driving tasks required to operate a commercial vehicle.” Mr. Fornsel reported that he has driven straight trucks for 25 years, accumulating 750,000 miles, and tractor-trailer combinations for 20 years, accumulating 1 million miles. He holds a Class A CDL from New York. His driving record for the last 3 years shows no crashes and no convictions for moving violations in a CMV.

Jamie L. French

Mr. French, 45, has a macular scar in his right eye due to toxoplasmosis which occurred in 1999. The visual acuity in his right eye is 20/200, and in his left eye, 20/20 . Following an examination in 2009, his ophthalmologist noted, “In my opinion, Mr. French has vision that is sufficient to perform the driving tasks required to operate a commercial vehicle.” Mr. French reported that he has driven straight trucks for 2½ years, accumulating 77,500 miles, and tractor-trailer combinations for 13 years, accumulating 540,800 miles. He holds a Class A CDL from North Carolina. His driving record for the last 3 years shows no crashes and no convictions for moving violations in a CMV.

Archie C. Hillsman

Mr. Hillsman, 56, has complete loss of vision in his left eye due to a traumatic injury sustained during childhood. The best corrected visual acuity in his right eye is 20/20. Following an examination in 2009, his optometrist noted, “Archie's vision is sufficient to perform the driving tasks required to operate a commercial vehicle.” Mr. Hillsman reported that he has driven straight trucks for 4 years, accumulating 40,000 miles, and tractor-trailer combinations for 5½ years, accumulating 343,750 miles. He holds a Class A CDL from Oregon. His driving record for the last 3 years shows no crashes and no convictions for moving violations in a CMV.

Amos W. Hulsey

Mr. Hulsey, 42, has complete loss of vision in his right eye since birth. The visual acuity in his left eye is 20/20. Following an examination in 2009, his optometrist noted, “It is my opinion that if Mr. Hulsey meets the standard requirements for the U.S. Department of Transportation Safety Administration, he does have sufficient vision in the left eye to perform the driving tasks required to operate a commercial vehicle.” Mr. Hulsey reported that he has driven straight trucks for 5 years, accumulating 250,000 miles, and tractor-trailer combinations for 6 years, accumulating 420,000 miles. He holds a Class D operator's license from Alabama. His driving record for the last 3 years shows no crashes and no convictions for moving violations in a CMV.

Guy A. Lanham

Mr. Lanham, 47, has had complete loss of vision in his right eye due to a corneal ulcer diagnosed in 2003 and two failed corneal transplants. The visual acuity in his left eye is 20/20. Following an examination in 2009, his optometrist noted, “It is my professional opinion that Mr. Lanham has sufficient vision to perform driving tasks required to operate a commercial vehicle.” Mr. Lanham reported that he has driven straight trucks for 3 years, accumulating 72,000 miles, and tractor-trailer combinations for 12 years, accumulating 1.5 million miles. He holds a Class A CDL from Florida. His driving record for the last 3 years shows no crashes and one conviction for speeding in a CMV. He exceeded the speed limit by 20 mph.

Glenn Lewis

Mr. Lewis, 41, has had amblyopia in his right eye since birth. The best corrected visual acuity in his right eye is 20/70 and in his left eye, 20/20. Following an examination in 2009, his optometrist noted, “In my opinion, from past performance and the current vision situation, Glenn should still be able to operate a commercial vehicle effectively for his employment, just as he has done for the past 12 years.” Mr. Lewis reported that he has driven straight trucks for 15 years, accumulating 3 million miles. He holds a Class A CDL from Ohio. His driving record for the last 3 years shows no crashes and no convictions for moving violations in a CMV

James M. McCormick

Mr. McCormick, 42, has had amblyopia in his right eye since birth. The best corrected visual acuity in his right eye is 20/60 and in his left eye, 20/15. Following an examination in 2009, his ophthalmologist noted, “I do believe he is capable of safely operating a commercial motor vehicle in interstate commerce with his current vision.” Mr. McCormick reported that he has driven straight trucks for 15 years, accumulating 75,000 miles. He holds a Class A CDL from Idaho. His driving record for the last 3 years shows no crashes and no convictions for moving violations in a CMV.

Shane W. Mincey

Mr. Mincey, 38, has corneal scarring in his right eye due to a traumatic injury sustained as a child. The best corrected visual acuity in his right eye is 20/200 and in his left eye, 20/20. Following an examination in 2009, his optometrist noted, “In my medical opinion, I feel Shane has sufficient vision to operate a commercial vehicle safely.” Mr. Mincey reported that he has driven straight trucks for 4 years, accumulating 120,000 miles. He holds a Class D operator's license from Alabama. His driving record for the last 3 years shows no crashes and no convictions for moving violations in a CMV.

Millard F. Neace, II

Mr. Neace, 36, has a retinal detachment in his left eye which occurred in 1996. The best corrected visual acuity in his right eye is 20/20 and in his left eye, 20/60. Following an examination in 2009, his optometrist noted, “Due to the stable chronic condition of his left eye, he has sufficient vision to operate a commercial vehicle.” Mr. Neace reported that he has driven straight trucks for 3 years, accumulating 216,000 miles, and tractor-trailer combinations for 4 years, accumulating 280,000 miles. He holds a Class A CDL from West Virginia. His driving record for the last 3 years shows no crashes and no convictions for moving violations in a CMV.

Frank L. Ortolani

Mr. Ortolani, 56, has had amblyopia in his right eye since birth. The best corrected visual acuity in his right eye is 20/200 and in his left eye, 20/20. Following an examination in 2009, his optometrist noted, “Although he may not have good central snellen visual acuity in the right eye, he does maintain normal peripheral visual fields which is sufficient to perform the driving test required to operate a commercial vehicle.” Mr. Ortolani reported that he has driven straight trucks for 15 years, accumulating 375,000 miles. He holds a Class B CDL from Ohio. His driving record for the last 3 years shows no crashes and no convictions for moving violations in a CMV.

Paul D. Prillaman

Mr. Prillaman, 47, has a prosthetic left eye due to corneal dystrophy which began as a child. The visual acuity in his right eye is 20/20. Following an examination in 2009, his ophthalmologist noted, “It is my professional medical opinion that Mr. Prillaman does have sufficient vision to perform the driving tasks required to operate a commercial vehicle.” Mr. Prillaman reported that he has driven straight trucks for 31 years, accumulating 1.7 million miles. He holds a Class B CDL from Virginia. His driving record for the last 3 years shows no crashes and no convictions for moving violations in a CMV.

Scott A. Randol

Mr. Randol, 50, has had a cataract in his right eye since birth. The visual acuity in his right eye is 20/70, and in his left eye, 20/20. Following an examination in 2009, his optometrist noted, “In my medical opinion, Mr. Randol has sufficient vision to perform the driving tasks required to operate a commercial vehicle.” Mr. Randol reported that he has driven straight trucks for 30 years, accumulating 300,000 miles, and tractor-trailer combinations for 30 years, accumulating 300,000 miles. He holds a Class A CDL from Missouri. His driving record for the last 3 years shows no crashes and no convictions for moving violations in a CMV.

Samuel E. Rees

Mr. Rees, 43, has a corneal scar in his right eye which occurred in 2004. The best corrected visual acuity in his right eye is 20/60 and in his left eye, 20/20. Following an examination in 2009, his optometrist noted, “Mr. Rees should have no visual problem operating a commercial vehicle.” Mr. Rees reported that he has driven straight trucks for 10 years, accumulating 400,000 miles. He holds a Class A CDL from Arizona. His driving record for the last 3 years shows no crashes and no convictions for moving violations in a CMV.

Danny L. Rolfe

Mr. Rolfe, 43, has retinal detachment in his right eye due to a traumatic injury sustained at age 18. The best corrected visual acuity in his left eye is 20/20. Following an examination in 2009, his optometrist noted, “From a vision perspective, I don't see any limitation to Dan's demonstrated ability to safely drive and operate commercial vehicles, it is my opinion that he is seeing adequately to continue driving.” Mr. Rolfe reported that he has driven straight trucks for 25 years, accumulating 125,000 miles, and tractor-trailer combinations for 23 years, accumulating 1.2 million miles. He holds a Class A CDL from Maine. His driving record for the last 3 years shows no crashes and no convictions for moving violations in a CMV.

Miguel A. Sanchez

Mr. Sanchez, 33, has had amblyopia in his right eye since childhood. The best corrected visual acuity in his right eye is 20/100 and in his left eye, 20/20. Following an examination in 2009, his optometrist noted, “In my medical opinion Miguel has sufficient vision to perform the driving tasks required to operate a commercial vehicle.” Mr. Sanchez reported that he has driven straight trucks for 8 years, accumulating 28,800 miles, and tractor-trailer combinations for 7 years, accumulating 25,200 miles. He holds a Class B CDL from New Mexico. His driving record for the last 3 years shows no crashes and no convictions for moving violations in a CMV.

Dennis R. Schneider

Mr. Schneider, 70, has had amblyopia in his right eye since birth. The best corrected visual acuity in his right eye is 20/200 and in his left eye, 20/20. Following an examination in 2009, his optometrist noted, “In my opinion, Dennis has the visual ability to perform the driving tasks of a commercial vehicle.” Mr. Schneider reported that he has driven straight trucks for 53 years, accumulating 31,800 miles, and buses for 46 years, accumulating 253,000 miles. He holds a Class A CDL from New Mexico. His driving record for the last 3 years shows no crashes and no convictions for moving violations in a CMV.

Michael D. Stevens

Mr. Stevens, 47, has had amblyopia in his right eye since birth. The best corrected visual acuity in his right eye is 20/70, and in his left eye, 20/20. Following an examination in 2009, his ophthalmologist noted, “In my medical opinion, the patient has sufficient vision to perform the driving tasks required to operate a commercial vehicle.” Mr. Stevens reported that he has driven tractor-trailer combinations for 9 years, accumulating 144,000 miles. He holds a Class A CDL from Michigan. His driving record for the last 3 years shows no crashes and no convictions for moving violations in a CMV.

Thomas G. Tomasiewicz

Mr. Tomasiewicz, 63, has had amblyopia in his right eye since birth. The best corrected visual acuity in his right eye is 20/200 and in his left eye, 20/20. Following an examination in 2009, his optometrist noted, “I do certify that this patient, Thomas Tomasiewicz, has sufficient visual abilities, in regard to acuity and visual field, to perform the task of driving and operating a commercial vehicle.” Mr. Tomasiewicz reported that he has driven straight trucks for 3 years, accumulating 150,000 miles. He holds a Class C operator's license from Illinois. His driving record for the last 3 years shows no crashes and no convictions for moving violations in a CMV.

James E. Vickery

Mr. Vickery, 39, has had amblyopia in his left eye since birth. The best corrected visual acuity in his right eye is 20/20 and in his left eye, 20/50. Following an examination in 2009, his optometrist noted, “In my medical opinion, Mr. Vickery has sufficient vision to perform the driving tasks required to operate a commercial vehicle.” Mr. Vickery reported that he has driven tractor-trailer combinations for 4 years, accumulating 208,000 miles. He holds a Class A CDL from Kentucky. His driving record for the last 3 years shows no crashes and no convictions for moving violations in a CMV.

Billy R. Wilkey

Mr. Wilkey, 63, has had amblyopia in his right eye since birth. The best corrected visual acuity in his right eye is 20/200 and in his left eye, 20/20. Following an examination in 2009, his ophthalmologist noted, “Mr. Wilkey's vision is sufficient to continue operating a commercial motor vehicle, in my opinion.” Mr. Wilkey reported that he has driven straight trucks for 21 years, accumulating 168,000 miles, and tractor-trailer combinations for 21 years, accumulating 168,000 miles. He holds a Class A CDL from Texas. His driving record for the last 3 years shows no crashes and no convictions for moving violations in a CMV.

James H. Williams, Jr.

Mr. Williams, 62, has had retinal detachment in his left eye due to a traumatic injury sustained in 1985. The best corrected visual acuity in his right eye is 20/25 and in his left eye, 20/200. Following an examination in 2009, his optometrist noted, “I do believe that Mr. Williams has sufficient visual field in his left eye that will not hinder his capability for driving. His right eye has been trained to compensate for the blur straight ahead. I do recommend yearly testing to follow his condition and capabilities.” Mr. Williams reported that he has driven straight trucks for 5 years, accumulating 150,000 miles, and tractor-trailer combinations for 35 years, accumulating 2.6 million miles. He holds a Class A CDL from Wisconsin. His driving record for the last 3 years shows no crashes and no convictions for moving violations in a CMV.

Reginald J. Wuethrich

Mr. Wuethrich, 46, has a prosthetic right eye due to a traumatic injury sustained in 1982. The best corrected visual acuity in his left eye is 20/15. Following an examination in 2009, his ophthalmologist noted, “In my opinion, given the long standing and stable nature of his visual condition, there is no reason for him to be unable to perform the duties associated with operating a commercial vehicle.” Mr. Wuethrich reported that he has driven straight trucks for 26 years, accumulating 78,000 miles, and tractor-trailer combinations for 26 years, accumulating 520,000 miles. He holds a Class A CDL from Illinois. His driving record for the last 3 years shows no crashes and no convictions for moving violations in a CMV.

Request for Comments

In accordance with 49 U.S.C. 31136(e) and 31315, FMCSA requests public comment from all interested persons on the exemption petitions described in this notice. The Agency will consider all comments received before the close of business February 12, 2010. Comments will be available for examination in the docket at the location listed under the ADDRESSES section of this notice. The Agency will file comments received after the comment closing date in the public docket, and will consider them to the extent practicable.

In addition to late comments, FMCSA will also continue to file, in the public docket, relevant information that becomes available after the comment closing date. Interested persons should monitor the public docket for new material.

Issued on: January 6, 2010.
Larry W. Minor,
Associate Administrator for Policy and Program Development.

[FR Doc. 2010-412 Filed 1-12-10; 8:45 am]

BILLING CODE 4910-EX-P